DEPARTMENT OF TRANSPORTATION

Federal Aviation Administration

[Docket No. FAA-2021-0678]

Agency Information Collection Activities: Requests for Comments; Clearance of a Renewed Approval of Information Collection: Part 135—Operating Requirements: Commuter and on-Demand Operations and Rules Governing Persons on Board Such Aircraft

AGENCY: Federal Aviation Administration (FAA), DOT.

ACTION: Notice and request for comments.

SUMMARY: In accordance with the Paperwork Reduction Act of 1995, FAA invites public comments about our intention to request the Office of Management and Budget (OMB) approval for to renew an information collection. The Federal Register Notice with a 60-day comment period soliciting comments on the following collection of information was published on August 10, 2021. The collection involves requirements for Air Carrier/Commercial Operators. The information to be collected shows compliance and applicant eligibility.

DATES: Written comments should be submitted by May 5, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Sandra Ray by email at: Sandra.ray@faa.gov; phone: 412-329-3088

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0039.

Title: Part 135—Operating Requirements: Commuter and on-Demand Operations and Rules Governing Persons on Board Such Aircraft.

Form Numbers: N/A.

Type of Review: Renewal of an information collection.

Background: The Federal Register Notice with a 60-day comment period soliciting comments on the following collection of information was published on August 10, 2021 (86 FR 43718). Title 49 U.S.C., section 44702 authorizes issuance of air carrier operating certificates. 14 CFR part 135 prescribes requirement for Air Carrier/Commercial Operators. Each operator which seeks to obtain, or is in possession of, an air carrier or FAA operating certificate must comply with the requirements of 14 CFR part 135 in order to maintain data which is used to determine if the carrier is operating in accordance with minimum safety standards. Air carrier and commercial operator certification is completed in accordance with 14 CFR part 119. Part 135 contains operations and maintenance requirements.

Respondents: Approximately 1,903 operators.

Frequency: As required by regulation.

Estimated Average Burden per Response: Varies per requirement.

Estimated Total Annual Burden: 1,356,461 Hours.

Issued in Washington DC on March 30, 2022.
Sandra L. Ray,
Aviation Safety Inspector, AFS-260.

[FR Doc. 2022-07066 Filed 4-4-22; 8:45 am]

BILLING CODE 4910-13-P